DEPARTMENT OF THE INTERIOR

National Park Service

[NPS-WASO-NRNHL-DTS#-30306; PPWOCRADI0, PCU00RP14.R50000]

National Register of Historic Places; Notification of Pending Nominations and Related Actions

AGENCY: National Park Service, Interior.

ACTION: Notice.

SUMMARY: The National Park Service is soliciting electronic comments on the significance of properties nominated before May 9, 2020, for listing or related actions in the National Register of Historic Places.

DATES: Comments should be submitted electronically by June 10, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before May 9, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

IOWA

Dubuque County

Loras College Historic District, Roughly bounded by Alta Vista St., Loras Blvd., Kirkwood St., Cox St., West 17th St., and Henion St., Dubuque, SG100005277

MASSACHUSETTS

Franklin County

North Cemetery, 114 Montague Rd., Leverett, SG100005276

OHIO

Ottawa County

North Bass School, 515 Kenny Rd., Isle St. George, SG100005289

PENNSYLVANIA

Cumberland County

Locust Grove Cemetery, (African American Churches and Cemeteries in Pennsylvania, c. 1644—c. 1970 MPS), 111-119 North Queen St., Shippensburg, MP100005291

Northampton County

R. K. Laros Silk Mill, 601-699 East Broad St., Bethlehem, SG100005292

VIRGINIA

Albemarle County

Campbell Hall, 110 Bayly Dr., Charlottesville vicinity, SG100005279

Norfolk Independent City

Norfolk Fire Department Station No. 12, 1650 West Little Creek Rd., Norfolk, SG100005281

WISCONSIN

Dodge County

Juneau, Solomon and Josette, House, 201 South Milwaukee St. (WI 175), Theresa, SG100005282

A request for removal has been made for the following resources:

MICHIGAN

Delta County

Bay de Noquet Lumber Company Waste Burner, South end of River St., Nahma, OT11000177

Menominee County

Alvin Clark (schooner), Mystery Ship Seaport, L. Michigan, Menominee vicinity, OT74000996

Wayne County

Grand Riviera Theater, 9222 Grand River Ave., Detroit, OT82002901

Chateau Frontenac Apartments (East Jefferson Avenue Residential TR), 10410 East Jefferson Ave., Detroit, OT91000213

Additional documentation has been received for the following resource:

VIRGINIA

Richmond Independent City

Almshouse, The (Additional Documentation), 210 Hospital St., Richmond, AD81000647

(Authority: Section 60.13 of 36 CFR part 60)

Dated: May 11, 2020.
Julie H. Ernstein,
Supervisory Archeologist,National Register of Historic Places/National Historic Landmarks Program.

[FR Doc. 2020-11200 Filed 5-22-20; 8:45 am]

BILLING CODE 4312-52-P